SMALL BUSINESS ADMINISTRATION

Military Reservist Economic Injury Disaster Loans; Interest Rate for Third Quarter FY 2013

In accordance with the Code of Federal Regulations 13—Business Credit and Assistance § 123.512, the following interest rate is effective for Military Reservist Economic Injury Disaster Loans approved on or after April 26, 2013.

Military Reservist Loan Program—4.000%.

Dated: May 2, 2013.
James E. Rivera,
Associate Administrator for Disaster Assistance.

[FR Doc. 2013-10845 Filed 5-6-13; 8:45 am]

BILLING CODE P